DEPARTMENT OF THE INTERIOR

Bureau of Land Management

[OR-912-6320-AA; GP2-0062]

Meeting for the Five Western Oregon BLM Resource Advisory Committee

AGENCY: Bureau of Land Management, Interior.

ACTION: Meeting notice for the five western Oregon Bureau of Land Management (BLM) Resource Advisory Committees under Section 205 of the Secure Rural Schools and Community Self Determination Act of 2000 (Pub. L. 106-393).

SUMMARY: This notice is published in accordance with Section 10(a)(2) of the Federal Advisory Committee Act. Meeting notice is hereby given for the five western Oregon BLM Resource Advisory Committees including the Coos Bay, Eugene, Medford, Roseburg and Salem Districts pursuant to Section 205 of the Secure Rural Schools and Community Self Determination Act of 2000, Public Law 106-393 (the Act). Topics to be discussed by the BLM Resource Advisory Committees include operating procedures, establishing roles and responsibilities, selection of a chairperson, Federal travel regulations, facilitation needs, as well as future meeting dates. Follow-up meetings will address projects to proposed for funding under Title II of the Act.

DATES: The BLM Resource Advisory Committees will meet on the following dates: The Coos Bay Resource Advisory Committee will meet at the BLM Coos Bay District Office, 1300 Airport Lane, North Bend, Oregon 97459, 9 a.m. to 3 p.m., on February 22, 2002 and 9 a.m. to 3 p.m., on March 7, 2002.

The Eugene Resource Advisory Committee will meet at the BLM Eugene District Office, 2890 Chad Drive, Eugene, Oregon 97440, 9 a.m. to 3 p.m., on February 28, 2002 and 9 a.m. to 3 p.m., on March 14, 2002.

The Medford Resource Advisory Committee will meet at the BLM Medford District Office, 3040 Biddle Road, Medford, Oregon 97504, 10 a.m. to 4 p.m., on February 14, 2002 and 10 a.m. to 4 p.m. March 27, 2002.

The Salem Resource Advisory Committee will meet at the BLM Salem District Office, 1717 Fabry Road, Salem, Oregon 97306, 9 a.m. to 3 p.m., on February 1, 2002 and 9 a.m. to 3 p.m., on March 1, 2002

The Roseburg Resource Advisory Committee will meet at the BLM Roseburg District Office, 777 N.W. Garden Valley Boulevard, Roseburg, Oregon 97470, 9 a.m. to 4 p.m., on February 11, 2002 and 9 a.m. to 4 p.m., on February 25, 2002.

SUPPLEMENTARY INFORMATION: Pursuant to the Act, five Resource Advisory Committees have been formed for western Oregon BLM districts that contain Oregon & California (O&C) Grant Lands and Coos Bay Wagon Road lands. The Act establishes a six-year payment schedule to local counties in lieu of funds derived from the harvest of timber on federal lands, which have dropped dramatically over the past 10 years.

The Act creates a new mechanism for local community collaboration with federal land management activities in the selection of projects to be conducted on federal lands or that will benefit resources on federal lands using funds under Title II of the Act. The BLM Resource Advisory Committees consist of 15 local citizens (plus 6 alternates) representing a wide array of interests.

FOR FURTHER INFORMATION CONTACT: Additional information concerning the BLM Resource Advisory Committees may be obtained from Maya Fuller, Public Affairs, Oregon State Office, P.O. Box 2965, Portland, Oregon 97208, (503) 952-6437, or maya_fuller@or.blm.gov, or on the Web at www.or.blm.gov.

Dated: December 21, 2001.
Chuck Wassinger,
Associate State Director.

[FR Doc. 02-984 Filed 1-15-02; 8:45 am]

BILLING CODE 4310-33-P